ENVIRONMENTAL PROTECTION AGENCY

40 CFR Part 52

[AZ 078-0035; FRL-6954-7]

Revisions to the Arizona State Implementation Plan, Arizona Department of Environmental Quality; Reopening of Comment Period

AGENCY: Environmental Protection Agency (EPA).

ACTION: Proposed rule; reopening of comment period.

SUMMARY: EPA is reopening the comment period for action proposed on December 18, 2000 (65 FR 79037) regarding revision to the Arizona State Implementation Plan (SIP).

DATES: Any comments on this proposal must arrive by April 16, 2001.

ADDRESSES: Mail comments to Andy Steckel, Rulemaking Office Chief (Air-4), U.S. Environmental Protection Agency, Region IX, 75 Hawthorne Street, San Francisco, CA 94105.

FOR FURTHER INFORMATION CONTACT: Al Petersen, Rulemaking Office (Air-4), U.S. Environmental Protection Agency, Region IX, (415) 744-1135.

SUPPLEMENTARY INFORMATION: On December 18, 2000, EPA proposed the following revision to the Arizona State Implementation Plan (SIP).

Local agency | Rule No. | Proposed action
Arizona Department of Environmental Quality | R18-2-702 | Disapproval.

The proposed action provided a 30-day public comment period. In response to a request from Gallagher & Kennedy, PA, submitted by letter on January 16, 2001, EPA is reopening the comment period for an additional 30 days.

Dated: March 5, 2001.
Michael Schulz,
Acting Regional Administrator, Region IX.

[FR Doc. 01-6568 Filed 3-15-01; 8:45 am]

BILLING CODE 6560-50-P